DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of July 5, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Coffey County, Kansas and Incorporated Areas
Docket No.: FEMA-B-2061
City of Burlington | City Hall, 1013 North 4th Street, Burlington, KS 66839.
City of Gridley | City Hall, 503 Main Street, Gridley, KS 66852.
City of Lebo | City Hall, 9 East 4th Street, Lebo, KS 66856.
City of LeRoy | City Hall, 713 South Main Street, LeRoy, KS 66857.
City of Waverly | City Hall, 210 Pearson Avenue, Waverly, KS 66871.
Unincorporated Areas of Coffey County | Coffey County Courthouse, 110 South 6th Street, Burlington, KS 66839.
Stark County, North Dakota and Incorporated Areas
Docket No.: FEMA-B-2037
City of Belfield | City Hall, 208 Main Street North, Belfield, ND 58622.
Unincorporated Areas of Stark County | Stark County Courthouse, 51 3rd Street East, Dickinson, ND 58601.
Lancaster County, Virginia and Incorporated Areas
Docket No.: FEMA-B-2003 and FEMA-B-2101
Town of Kilmarnock | Town Hall Office, 1 North Main Street, Kilmarnock, VA 22482.
Unincorporated Areas of Lancaster County | Lancaster County Administration Building, Department of Planning and Land Use, 8311 Mary Ball Road, Lancaster, VA 22503.
Richmond County, Virginia and Incorporated Areas
Docket No.: FEMA-B-2003 and FEMA-B-2101
Town of Warsaw | Robert W. Municipal Building, 78 Belle Ville Lane, Warsaw, VA 22572.
Unincorporated Areas of Richmond County | Richmond County Administrator's Office, 101 Court Circle, Warsaw, VA 22572.

[FR Doc. 2022-07303 Filed 4-5-22; 8:45 am]

BILLING CODE 91110-12-P